DEPARTMENT OF THE INTERIOR

Bureau of Indian Affairs

Notice of Ratification of Decision To Take 90.94 Acres of Land, More or Less, Into Trust for the Lower Brule Sioux Tribe of Indians of South Dakota

AGENCY: Bureau of Indian Affairs, Interior.

ACTION: Notice of ratification of decision.

SUMMARY: This publication provides notice that the decision of the Department of the Interior published on May 18, 2000, in the Federal Register, 65 FR 31594, to acquire 90.94 acres of land, more or less, in trust for the Lower Brule Sioux Tribe of Indians of South Dakota is hereby ratified. This ratification incorporates the entire record of decision supporting the Department's April 6, 2000, decision to acquire land in trust for the Lower Brule Sioux Tribe of Indians of South Dakota and incorporates the Environmental Assessment (EA) and Finding of No Significant Impact (FONSI) issued on December 14, 2000, into the administrative record. This notice of ratification will be considered final no sooner than thirty days after this notice is published. This notice is published in the exercise of authority delegated by the Secretary of the Interior to the Assistant Secretary—Indian Affairs by 209 DM 8.1 and pursuant to 25 CFR 151.12(b), 61 FR 18082, April 24, 1996.

FOR FURTHER INFORMATION CONTACT: Terrance L. Virden, Bureau of Indian Affairs, Director, Office of Trust Responsibilities, MS-4513-MIB, 1849 C Street, NW, Washington, DC 20240; telephone (202) 208-5831.

SUPPLEMENTARY INFORMATION: On April 6, 2000, the Assistant Secretary—Indian Affairs made a final determination that the United States will accept 90.94 acres of land, more or less, in trust for the Lower Brule Sioux Tribe of Indians of South Dakota. It was determined that the acceptance of the 90.94 acres in trust, pursuant to 25 U.S.C. 465, would be in the best interest of the Lower Brule Sioux Tribe of Indians of South Dakota. On December 14, 2000, the Bureau issued an EA and FONSI for the trust acquisition of the Lower Brule Sioux Tribe and the construction of the Native American Scenic Byway. Based on the additional environmental information contained in the EA, the Department ratifies its April 6, 2000, decision to take 90.94 acres of land in trust for the Lower Brule Sioux Tribe of Indians of South Dakota.

Dated: January 18, 2001.
Michael J. Anderson,
Acting Assistant Secretary—Indian Affairs.

[FR Doc. 01-2383 Filed 1-25-01; 8:45 am]

BILLING CODE 4310-02-P